DEPARTMENT OF HOMELAND SECURITY

Coast Guard

33 CFR Part 165

[COTP St. Petersburg 06-089]

RIN 1625-AA00

Safety Zone; John's Pass, Tampa Bay, FL

AGENCY: Coast Guard, DHS.

ACTION: Temporary final rule.

SUMMARY: The Coast Guard is establishing a temporary safety zone on the waters of Tampa Bay, Florida in the vicinity of the John's Pass Bascule Bridge. This safety zone is being established to protect mariners from the hazards associated with the blasting demolition of the concrete portions of the John's Pass Bascule Bridge. This rule is necessary to provide for the safety of life on the navigable waters of the United States.

DATES: This rule is effective from 7 a.m. on July 10, 2006 through 7 p.m. on September 15, 2006.

ADDRESSES: Documents indicated in this preamble as being available in the docket are part of the docket [COTP St. Petersburg 06-089] and are available for inspection or copying at Coast Guard Sector St. Petersburg, Prevention Department, 155 Columbia Drive, Tampa, Florida 33606-3598 between 7:30 a.m. and 3:30 p.m., Monday through Friday, except Federal holidays.

FOR FURTHER INFORMATION CONTACT: Waterways Management Division at Coast Guard Sector St. Petersburg, Prevention Department, (813) 228-2191 Ext. 8307.

SUPPLEMENTARY INFORMATION:

Regulatory Information

We did not publish a notice of proposed rulemaking (NPRM) for this regulation. Under 5 U.S.C. 553(b)(B), the Coast Guard finds that good cause exists for not publishing an NPRM. The necessary details for the blasting demolition of the John's Pass Bascule Bridge were not provided with sufficient time remaining to publish an NPRM. Publishing an NPRM and delaying its effective date would be contrary to the public interest since immediate action is needed to minimize potential danger to the public during the blasting demolition of the John's Pass Bascule Bridge. The Coast Guard will issue a broadcast notice to mariners to advise mariners of the restriction along with Coast Guard assets and/or Pinellas County Sheriff marine unit on scene who will also provide notice of the safety zone to mariners.

For the same reasons, under 5 U.S.C. 553(d)(3), the Coast Guard finds that good cause exists for making this rule effective less than 30 days after publication in the Federal Register.

Background and Purpose

Flatiron Construction was contracted to build a new Bascule at John's Pass and remove the existing Bridge. A meeting was held on April 13, 2006 to address the blasting of the concrete supports of the Bascule Bridge directly adjacent to the navigation channel. Flatiron will conduct two separate blasts on two different days to break the concrete supports into smaller sections for removal. The blasts are tentatively scheduled for July 28, 2006 at approximately 8 a.m., and August 25, 2006 at approximately 8 a.m. Both blasts will fracture the remaining concrete portions of the bridge supports below the waterline. The use of explosives and the proximity of the supports to the navigable channel present a hazard to mariners transiting the area. This safety zone is being established to ensure the safety of life on the navigable waters of the United States and, as such, the safety zone will be enforced for approximately two hours on days on which blasts will take place.

Discussion of Rule

The safety zone will extend out from the John's Pass Bascule Bridge in a 1,000-foot radius. Vessels and persons not under contract or employees of Flatiron are prohibited from entering, anchoring or transiting within this zone, unless authorized by the Captain of the Port St. Petersburg or his designated representative. This safety zone is effective from 7 a.m. on July 10, 2006 through 7 p.m. on September 15, 2006. The Coast Guard does not know the exact dates that this safety zone will be enforced at this time, although tentative plans are for blasts to occur on July 28, 2006 and August 25, 2006. It is estimated that the safety zone will be enforced for approximately two hours on days on which a blast occurs. Coast Guard Sector St Petersburg will give notice of the enforcement of the safety zone by issuing a Broadcast Notice to Mariners beginning 24 to 48 hours before the blasting is scheduled to begin. On-scene notice will be provided by local Coast Guard and Pinellas County Sheriff marine units enforcing the safety zone.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The Coast Guard expects the economic impact of this proposal to be so minimal that a full Regulatory Evaluation under the regulatory policies and procedures of DHS is unnecessary because the safety zone will be in effect for a limited period of time and vessels may enter with the express permission of the Captain of the Port St. Petersburg or his designated representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: the owners or operators of vessels intending to transit within a 1,000-foot radius from the John's Pass Bascule Bridge. This safety zone will not have a significant economic impact on a substantial number of small entities for the following reasons. This rule will only be enforced for a limited time when vessel traffic is expected to be extremely low. Additionally, traffic will be allowed to enter the zone with the permission of the Captain of the Port St. Petersburg or his designated representative.

Assistance for Small Entities

Under section 213(a) of the Small Business Regulatory Enforcement Fairness Act of 1996 (Public Law 104-121), we offered to assist small entities in understanding the rule so that they could better evaluate its effects on them and participate in the rulemaking process. Small entities may contact the office listed under FOR FURTHER INFORMATION CONTACT for assistance in understanding and participating in this rulemaking. We also have a point of contact for commenting on actions by employees of the Coast Guard. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect the taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Division 5100.0, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g), of the Instruction, from further environmental documentation.

A final “Environmental Analysis Checklist” and a final “Categorical Exclusion Determination” are available in the docket where indicated under ADDRESSES.

List of Subjects in 33 CFR Part 165

Harbors, Marine safety, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. A new temporary section 165.T07-089 is added to read as follows:

§ 165.T07-089 Safety Zone; John's Pass, Tampa Bay, FL.

(a) Regulated Area. The Coast Guard is establishing a safety zone on the waters of the Gulf of Mexico in the vicinity of the John's Pass Bascule Bridge. The safety zone encompasses all waters within a 1,000 foot radius of the John's Pass Bascule Bridge located at 27°46′58″ N, 82°46′57″ W.

(b) Definitions. The following definitions apply to this section: (1) Designated representative means Coast Guard Patrol Commanders including Coast Guard coxswains, petty officers and other officers operating Coast Guard vessels, and federal, state, and local officers designated by or assisting the Captain of the Port St. Petersburg, in the enforcement of regulated navigation areas and safety and security zones.

(c) Regulations. In accordance with the general regulations in § 165.23 of this part, entry into this Regulated Area is prohibited to all vessels and persons without the prior permission of the Coast Guard Captain of the Port St. Petersburg or his designated representative.

(d) Enforcement Period. This rule will only be enforced immediately preceding and following a detonation within the regulated area. Coast Guard Sector St. Petersburg will give notice of the enforcement of the regulated area by issuing a Broadcast Notice to Mariners beginning 24 to 48 hours prior to beginning the operation. On-scene notice will be provided by local Coast Guard and local law enforcement marine units enforcing the regulated area.

(e) Dates. This rule is effective from 7 a.m. on July 10, 2006 through 7 p.m. on September 15, 2006.

Dated: July 10, 2006.
J. A. Servidio,
Captain, U.S. Coast Guard, Captain of the Port, St Petersburg, Florida.

[FR Doc. E6-11486 Filed 7-18-06; 8:45 am]

BILLING CODE 4910-15-P